DEPARTMENT OF ENERGY

Federal Energy Regulatory Commission

Combined Notice of Filings

Take notice that the Commission has received the following Natural Gas Pipeline Rate and Refund Report filings:

Filings Instituting Proceedings

Docket Numbers: RP13-187-000.

Applicants: Transcontinental Gas Pipe Line Company.

Description: GSS LSS Tracker Filing 11-01-2012 to be effective 11/1/2012.

Filed Date: 10/29/12.

Accession Number: 20121029-5012.

Comments Due: 5 p.m. ET 11/13/12.

Docket Numbers: RP13-188-000.

Applicants: Natural Gas Pipeline Company of America.

Description: Negotiated Rate Filing—Integrys Energy to be effective 11/1/2012.

Filed Date: 10/29/12.

Accession Number: 20121029-5013.

Comments Due: 5 p.m. ET 11/13/12.

Docket Numbers: RP13-189-000.

Applicants: National Fuel Gas Supply Corporation.

Description: Reservation Charge Credits to be effective 11/28/2012.

Filed Date: 10/30/12.

Accession Number: 20121030-5000.

Comments Due: 5 p.m. ET 11/13/12.

Docket Numbers: RP13-190-000.

Applicants: Texas Eastern Transmission, LP.

Description: EQT Energy TIME II 11-01-2012 Negotiated Rate to be effective 11/1/2012.

Filed Date: 10/30/12.

Accession Number: 20121030-5007.

Comments Due: 5 p.m. ET 11/13/12.

Docket Numbers: RP13-191-000.

Applicants: Texas Eastern Transmission, LP.

Description: Tenaska 11-01-2012 M1 Expansion Negotiated Rate to be effective 11/1/2012.

Filed Date: 10/30/12.

Accession Number: 20121030-5008.

Comments Due: 5 p.m. ET 11/13/12.

Docket Numbers: RP13-192-000.

Applicants: Ozark Gas Transmission, L.L.C.

Description: 2012 Implementation Revisions to be effective 12/1/2012.

Filed Date: 10/30/12.

Accession Number: 20121030-5010.

Comments Due: 5 p.m. ET 11/13/12.

Docket Numbers: RP13-193-000.

Applicants: Gulf South Pipeline Company, LP.

Description: QEP 37657-24 and 36601-12 Amendments to Neg Rate Agmts to be effective 11/1/2012.

Filed Date: 10/30/12.

Accession Number: 20121030-5019.

Comments Due: 5 p.m. ET 11/13/12.

Docket Numbers: RP13-194-000.

Applicants: Gulf South Pipeline Company, LP.

Description: Constellation 39809 Neg Rate Agmt to be effective 11/1/2012.

Filed Date: 10/30/12.

Accession Number: 20121030-5020.

Comments Due: 5 p.m. ET 11/13/12.

Docket Numbers: RP13-195-000.

Applicants: Gulf South Pipeline Company, LP.

Description: Enerquest 34686 to BP 40072 Cap Rel Neg Rate Agmt filing to be effective 11/1/2012.

Filed Date: 10/30/12.

Accession Number: 20121030-5021.

Comments Due: 5 p.m. ET 11/13/12.

Docket Numbers: RP13-196-000.

Applicants: Gulf South Pipeline Company, LP.

Description: KU Non-conforming Agreement filing to be effective 11/1/2012.

Filed Date: 10/30/12.

Accession Number: 20121030-5022.

Comments Due: 5 p.m. ET 11/13/12.

Docket Numbers: RP13-197-000.

Applicants: Alliance Pipeline L.P.

Description: November 1-30 Capacity Auction to be effective 11/1/2012.

Filed Date: 10/30/12.

Accession Number: 20121030-5131.

Comments Due: 5 p.m. ET 11/13/12.

Docket Numbers: RP13-198-000.

Applicants: El Paso Natural Gas Company, L.L.C.

Description: Non-Conforming FT-2 Agreement Filing to be effective 12/1/2012.

Filed Date: 10/30/12.

Accession Number: 20121030-5132.

Comments Due: 5 p.m. ET 11/13/12.

Docket Numbers: RP13-199-000.

Applicants: Kern River Gas Transmission Company

Description: 2013 P2 Rates to be effective 5/1/2013.

Filed Date: 10/31/12.

Accession Number: 20121031-5005.

Comments Due: 5 p.m. ET 11/13/12.

Docket Numbers: RP13-200-000.

Applicants: Algonquin Gas Transmission, LLC.

Description: Algonquin Gas Transmission, LLC submits tariff filing per 154.204: Brooklyn Union Gas Ramapo November 2012 Releases to be effective 11/1/2012.

Filed Date: 10/31/12.

Accession Number: 20121031-5035.

Comments Due: 5 p.m. ET 11/13/12.

Docket Numbers: RP13-201-000.

Applicants: Algonquin Gas Transmission, LLC.

Description: Algonquin Gas Transmission, LLC submits tariff filing per 154.204: ConEd Ramapo November 2012 Releases to be effective 11/1/2012.

Filed Date: 10/31/12.

Accession Number: 20121031-5036.

Comments Due: 5 p.m. ET 11/13/12.

Docket Numbers: RP13-202-000.

Applicants: Algonquin Gas Transmission, LLC.

Description: Algonquin Gas Transmission, LLC submits tariff filing per 154.204: KeySpan Ramapo November 2012 Releases to be effective 11/1/2012.

Filed Date: 10/31/12.

Accession Number: 20121031-5038.

Comments Due: 5 p.m. ET 11/13/12.

Docket Numbers: RP13-203-000.

Applicants: Florida Gas Transmission Company, LLC.

Description: Florida Gas Transmission Company, LLC submits tariff filing per 154.204: Intraday 3 Nomination Cycle to be effective 12/1/2012.

Filed Date: 10/31/12.

Accession Number: 20121031-5043.

Comments Due: 5 p.m. ET 11/13/12.

Docket Numbers: RP13-204-000.

Applicants: Texas Gas Transmission, LLC.

Description: Texas Gas Transmission, LLC submits tariff filing per 154.204: KU Non-conforming agreement filing 10-31-12 to be effective 11/1/2012.

Filed Date: 10/31/12.

Accession Number: 20121031-5046.

Comments Due: 5 p.m. ET 11/13/12.

Docket Numbers: RP13-205-000.

Applicants: Trunkline Gas Company, LLC.

Description: Trunkline Gas Company, LLC submits tariff filing per 154.203: Annual Interruptible Storage Revenue Credit filed 10-31-12.

Filed Date: 10/31/12.

Accession Number: 20121031-5047.

Comments Due: 5 p.m. ET 11/13/12.

Docket Numbers: RP13-206-000.

Applicants: Southern LNG Company, L.L.C.

Description: Southern LNG Company, L.L.C. submits tariff filing per 154.204: SLNG Electric Power Cost Adjustment—2012 to be effective 12/1/2012.

Filed Date: 10/31/12.

Accession Number: 20121031-5048.

Comments Due: 5 p.m. ET 11/13/12.

Docket Numbers: RP13-207-000.

Applicants: WBI Energy Transmission, Inc.

Description: WBI Energy Transmission, Inc. submits tariff filing per 154.204: New Antelope Pool to be effective 12/1/2012.

Filed Date: 10/31/12.

Accession Number: 20121031-5049.

Comments Due: 5 p.m. ET 11/13/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1013-001.

Applicants: Ruby Pipeline, L.L.C.

Description: Compliance and Updates in RP12-1013-000 Proceeding to be effective 11/29/2012.

Filed Date: 10/30/12.

Accession Number: 20121030-5011.

Comments Due: 5 p.m. ET 11/13/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 31, 2012.
Nathaniel J. Davis, Sr.,
Deputy Secretary.

[FR Doc. 2012-27111 Filed 11-6-12; 8:45 am]

BILLING CODE 6717-01-P